DEPARTMENT OF COMMERCE

National Oceanic and Atmospheric Administration

North Pacific Fishery Management Council; Public Meeting

AGENCY: National Marine Fisheries Service (NMFS), National Oceanic and Atmospheric Administration (NOAA), Commerce.

ACTION: Notice of telephonic meeting.

SUMMARY: The North Pacific Fishery Management Council (Council) Electronic Monitoring Workgroup (EMWG) will hold a telephonic meeting on May 11, 2016.

DATES: The meeting will be held on Wednesday, May 11, 2016, from 8 a.m. to 5 p.m. (Alaska Time).

ADDRESSES: The meeting will be held in the Traynor Room, Building 4 at the Alaska Fishery Science Center, 7600 Sand Point Way NE., Seattle, WA 98115. Teleconference number is (907) 271-2896.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Wednesday May 11, 2016

The agenda will include an update on the 2016 pre-implementation program, review of the budget and funding, the 2017 pre-implementation planning, enforcement elements of the EM planning, EM analysis, and the scope of the June 2016 Council discussion. The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: April 21, 2016.
Tracey L. Thompson,
Acting Deputy Director, Office of Sustainable Fisheries, National Marine Fisheries Service.

[FR Doc. 2016-09661 Filed 4-25-16; 8:45 am]

BILLING CODE 3510-22-P